DEPARTMENT OF TRANSPORTATION

Federal Aviation Administration

14 CFR Part 39

[Docket No. FAA-2014-0574; Directorate Identifier 2013-NM-258-AD; Amendment 39-18315; AD 2015-22-10]

RIN 2120-AA64

Airworthiness Directives; Airbus Airplanes

AGENCY: Federal Aviation Administration (FAA), Department of Transportation (DOT).

ACTION: Final rule.

SUMMARY: We are adopting a new airworthiness directive (AD) for all Airbus Model A318, A319, A320, and A321 series airplanes. This AD was prompted by a report of skin disbonding on a composite side shell panel of a rudder. This AD requires an inspection to determine if any rudder composite side shell panel has been repaired, a thermography inspection of each rudder that has received this repair, and related investigative and corrective actions if necessary. We are issuing this AD to detect and correct skin disbonding on the rudder, which could affect the structural integrity of the rudder, possibly resulting in reduced control of the airplane.

DATES: This AD becomes effective December 15, 2015.

The Director of the Federal Register approved the incorporation by reference of a certain publication listed in this AD as of December 15, 2015.

ADDRESSES: You may examine the AD docket on the Internet at http://www.regulations.gov/#!docketDetail;D=FAA-2014-0574 or in person at the Docket Management Facility, U.S. Department of Transportation, Docket Operations, M-30, West Building Ground Floor, Room W12-140, 1200 New Jersey Avenue SE., Washington, DC.

For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2014-0574.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 by adding an AD that would apply to all Airbus Model A318 series airplanes, Model A319 series airplanes, Model A320-211, -212, -214, -231, -232, and -233 airplanes, and Model A321 series airplanes. The NPRM published in the Federal Register on August 22, 2014 (79 FR 49724). The NPRM was prompted by a report of skin disbonding on a composite side shell panel of a rudder. The NPRM proposed to require an inspection to determine if any rudder composite side shell panel has been repaired, a thermography inspection of each rudder that has received this repair, and related investigative and corrective actions if necessary. We are issuing this AD to detect and correct skin disbonding on the rudder, which could affect the structural integrity of the rudder, possibly resulting in reduced control of the airplane.

The European Aviation Safety Agency (EASA), which is the Technical Agent for the Member States of the European Union, has issued EASA Airworthiness Directive 2013-0302, dated December 19, 2013 (referred to after this as the Mandatory Continuing Airworthiness Information, or “the MCAI”), to correct an unsafe condition for all Airbus Model A318, A319, A320, and A321 series airplanes. The MCAI states:

A case of skin disbonding was reported on a composite side shell panel of a rudder installed on an A310 aeroplane. Investigation results revealed that this disbonding had started from a skin panel area, previously repaired in-service, in accordance with Structural Repair Manual (SRM) instructions. The initial damage was identified as a disbonding between the core and the skin of the repaired area. This damage was not visually detectable and likely propagated during normal operation due to the variation of pressure during ground-air-ground cycles.

Composite rudder side shell panels are also installed on A320 family aeroplanes, which may have been repaired in-service using a similar method.

This condition, if not detected and corrected, could affect the structural integrity of the rudder, possibly resulting in reduced control of the aeroplane.

To address this potential unsafe condition, Airbus issued Service Bulletin (SB) A320-55-1041 to provide instructions to inspect and correct any affected composite rudder side shell panels.

For the reasons described above, this [EASA] AD requires [an inspection to determine if any rudder composite side shell panel has been repaired], a one-time [pulse] thermography inspection of each rudder that have received a composite rudder side shell panel repair, and, depending on the findings, accomplishment of applicable corrective and follow-up actions [related investigative actions and repetitive inspections].

The related investigative actions include elasticity laminate checker (ELCH) inspections, ultrasonic testing (UT) inspections, pulse thermography inspections, and tap test or woodpecker inspections. The repetitive inspections include ELCH inspections, UT inspections, pulse thermography inspections, and detailed inspections (certain repetitive inspections are required if hole restoration is done; certain other repetitive inspections are options for certain corrective actions). The corrective actions include core venting through the inner skin, replacements, restorations, and repairs.

You may examine the MCAI in the AD docket on the Internet at http://www.regulations.gov/#!documentDetail;D=FAA-2014-0574-0007.

Comments

We gave the public the opportunity to participate in developing this AD. The following presents the comments received on the NPRM (79 FR 49724, August 22, 2014) and the FAA's response to each comment.

Request To Extend Compliance Time for Rudder Inspections

Delta Air Lines Inc. (DAL) requested that we change the compliance time in the NPRM (79 FR 49724, August 22, 2014) from 24 months to at least 42 months. DAL stated that the 24-month compliance time for accomplishing rudder inspections will be overly burdensome to operators of large fleets. DAL explained that it has 128 affected units, and if two full-time technicians were assigned for the inspection and rework, it would take over 7 years to accomplish the inspections. DAL added that a 42-month compliance time would allow proper planning, inspection, and rework of affected rudders and suggested that intervisual inspections could be used to support this compliance time extension.

We disagree with the commenter's request. The compliance time is based on a risk assessment. Some safety issues are more time-sensitive than others. We have considered the compliance time established by the EASA (the State of Design authority), and the overall risk to the fleet, including the severity of the identified unsafe condition and the likelihood of the occurrence of the unsafe condition, to determine the compliance time. However, under the provisions of paragraph (p)(1) of this AD, operators may apply for an extension of the compliance time by providing rationale explaining why a compliance time extension provides an acceptable level of safety. We have not changed this AD in this regard.

Requests To Revise Service Information and Use Alternative Sanding Procedure

United Airlines (UAL) and Airbus requested that we revise the NPRM (79 FR 49724, August 22, 2014) to reference Airbus Service Bulletin A320-55-1041, Revision 01, dated February 24, 2014, as the appropriate source of service information for accomplishing the required actions. Airbus also requested we allow credit for work accomplished prior to the effective date of this AD using Airbus Service Bulletin A320-55-1041, dated November 26, 2012.

Airbus also requested we to revise paragraph (h) of the proposed AD (79 FR 49724, August 22, 2014) to allow local sanding as an alternative to pulse thermography inspections for determining type, location, and size of repair, as described in Airbus Service Bulletin A320-55-1041, Revision 01, dated February 24, 2014. Airbus also requested we allow credit for work accomplished prior to the effective date of this AD using Airbus Service Bulletin A320-55-1041, dated November 26, 2012.

We partially agree with the commenters' requests. We agree to reference Airbus Service Bulletin A320-55-1041, Revision 01, dated February 24, 2014, as the appropriate source of service information for accomplishing the required actions. We have changed paragraphs (h), (i)(2), (j), (j)(1), (j)(2), (k), (l)(1), (l)(2), and (n) of this AD accordingly. We also agree to provide credit for work accomplished prior to the effective date of this AD using Airbus Service Bulletin A320-55-1041, dated November 26, 2012. We have added new paragraph (o) to this AD to provide this credit, and redesignated subsequent paragraphs accordingly.

However, we disagree with Airbus's request to revise paragraph (h) of this AD to allow local sanding as an alternative to pulse thermography inspections for determining type, location, and size of repair. Based on Airbus Service Bulletin A320-55-1041, Revision 01, dated February 24, 2014, local sanding is an alternative to pulse thermography inspections only in certain specific cases, and it is possible that pulse thermography inspections would be required after the local sanding. However, operators may apply for approval of an alternative method of compliance (AMOC) in accordance with the provisions specified in paragraph (p)(1) of this AD, and must identify clearly the conditions for using local sanding in lieu of pulse thermography inspections.

Request To Remove Structural Repair Manual (SRM) Repair Prohibition

UAL requested we remove paragraph (n) of the proposed AD (79 FR 49724, August 22, 2014), which prohibits repair in accordance with certain SRM procedures. UAL stated it is unnecessary to prohibit repair per these procedures since the procedures have been deactivated by Airbus.

We disagree with the commenter's request. Deactivation of SRM procedures by the manufacturer cannot ensure prevention of all operators from using the SRM procedures if they have not kept their manual current. We have not changed this AD in this regard.

Request To Revise Cost Estimate

UAL and DAL requested that we revise the estimated cost. The commenters stated that the NPRM (79 FR 49724, August 22, 2014) understates the required costs and does not provided on-condition cost estimates. UAL and DAL provided some examples of costs incurred for previous repairs.

We disagree with the commenters' request. We indicated in the NPRM (79 FR 49724, August 22, 2014) that we do not have information about the costs associated with the on-condition actions to mitigate the risk addressed in the NPRM. The on-condition costs can vary for each operator, depending upon inspection findings. Therefore, we have not provided on-condition cost estimates; instead, we provided our best estimate for the inspection costs based on the information received from the airframe manufacturer. We have not changed this AD in this regard.

Requests To Remove Requirement for Reporting Undocumented Rudders

UAL and DAL requested that we remove paragraph (i)(1) of the proposed AD (79 FR 49724, August 22, 2014), which proposed to require sending to Airbus the records for each rudder and serial number of each rudder for which maintenance records are incomplete or unavailable.

Mr. Amaar Chaudhary requested we revise paragraph (i)(1) of the proposed AD (79 FR 49724, August 22, 2014) to require sending only the rudder serial number to Airbus. However, UAL stated that providing such rudder records is not reasonable because the records are embedded within various paper forms in separate archived collections spanning the airplane life of up to 19 years, and are not in a recoverable electronic format. UAL and DAL also explained that it is possible operators have not retained records for permanent rudder repairs earlier than the previous airplane overhaul per section 121.380 of the Federal Aviation Regulations (14 CFR 121.380).

We agree with the commenters' statements that paragraph (i)(1) of this AD should not require sending rudder repair records to Airbus. However, we disagree with the requests to not require submission of serial numbers of rudders without maintenance records to Airbus. Operators must report the rudders without maintenance records by serial number to Airbus to obtain related rudder manufacturing rework data. We have revised paragraph (i)(1) of this AD to specify sending to Airbus the serial number of each rudder for which maintenance records are not available or are incomplete.

Request To Remove Requirement To Inspect for Repair Status

DAL requested that we revise paragraph (g) of the proposed AD (79 FR 49724, August 22, 2014) to remove the requirement to inspect repair records, but instead to require directly complying with the pulse thermography inspection proposed by paragraph (i) of the proposed AD.

We disagree with the commenter's request. Paragraph (g) of this AD establishes the requirements for paragraph (h) and (i) of this AD. An operator is required to inspect airplane maintenance records to determine if it needs to comply with paragraph (h) or (i) of this AD. In addition, the required reporting specified in paragraph (i)(1) of this AD will help determine the extent of the undocumented repairs in the affected fleet. Based on the results of these reports, we might determine that further corrective action is warranted. We have not changed this AD in this regard.

Request To Add Part Number Change, and Remove Part Installation Limitation

DAL requested that we require a part number change for post-inspection rudders to aid in configuration and AD compliance control, and remove the parts installation limitation in paragraph (m) of the proposed AD (79 FR 49724, August 22, 2014). DAL stated that, to prevent an unnecessary airplane out of service condition in the event a rudder change is required, allowing pre- and post-inspection rudders to be installed throughout the full compliance time would provide the same level of safety.

We disagree with the commenter's requests. Configuration control can be achieved by multiple methods and is unique to each operator's method of managing its fleet. Therefore, we have not been prescriptive regarding methods for configuration control. We also disagree to omit paragraph (m) of this AD (Parts Installation Limitation). The intent of the paragraph (m) of this AD is to ensure that, from the effective date of this AD, rudders with a known unsafe condition are not installed unless the corrective actions of paragraph (j) of this AD are completed. This clarification has been coordinated with the EASA. The compliance time is established based on overall risk to the fleet, including the severity of the failure and the likelihood of the failure's occurrence, fleet utilization, and availability of service information and parts. Therefore, the parts installation limitation should not be related to the compliance time associated with mitigating the unsafe condition. We have revised paragraph (m) of this AD to prevent, as of the effective date of this AD, installing a rudder with a known unsafe condition by specifying that the inspection requirements of paragraphs (h) and (i) of this AD must be done and the applicable corrective actions required by paragraph (j) of this AD must be done, except for rudders that meet the requirements of paragraph (k) of this AD.

Request To Use Alternative Testing Equipment

DAL, Thermal Wave Imaging, and Snell Group requested the use of alternate equipment for performing the pulse thermography inspection required in the NPRM (79 FR 49724, August 22, 2014). DAL stated that, at a recent Airlines for America non-destructive test (NDT) forum, evidence was presented supporting use of alternate equipment for performing pulse thermography inspections. DAL, Thermal Wave Imaging, and Snell Group explained that Airbus prohibits the use of alternate equipment other than what is recommended in the “NTM task 55-40-50-290-801-A-01.”

Thermal Wave Imaging stated that since Airbus is both the manufacturer of the airplane and the vendor of the inspection equipment, it appears that the non-allowance of equivalent equipment is a business decision intended to increase its revenue and lock out other companies from not only this inspection, but future thermography inspections that may be developed. Thermal Wave Imaging and Snell Group provided a comparison of the Airbus recommended Gecko System equipment with VoyageIR Pro equipment for performing the pulse thermography inspection.

We disagree with the commenters' request. The commenters did not provide any substantiation to support the use of alternate inspection equipment other than the equipment recommended by Airbus. We were informed by Airbus that they have recommended the use of specific equipment after evaluating its performance, which will facilitate mitigating the risks associated with the identified unsafe condition. However, we will consider requests for approval of an AMOC for the use of alternate inspection equipment in accordance with the provision in paragraph (p)(1) of this AD if sufficient data is submitted to substantiate that the results from the alternate inspection equipment are conclusive to facilitate mitigating the risks associated with the identified unsafe condition. We have not changed this AD in this regard.

Request To Approve Future Service Bulletin Revisions

DAL requested that future revisions of Airbus Service Bulletin A320-55-1041 be considered as approved under EASA Design Organization Approval (DOA) for accomplishing the required AD actions.

We disagree with the commenter's request. Approval authority under EASA DOA, as stated in paragraph (p)(2) of this AD, is only applicable to requirements in this AD to obtain corrective actions from the manufacturer and does not apply to approval of future service information. When referring to a specific service bulletin in an AD, using the phrase, “or later approved revisions,” violates Office of the Federal Register regulations for approving materials that are incorporated by reference. However, affected operators may request approval to use a later revision of the referenced service bulletin as an alternative method of compliance, under the provisions of paragraph (p)(1) of this AD. We have not changed this AD in this regard.

Explanation of “RC” Steps in Service Information

As stated previously, we have revised this final rule to reference Airbus Service Bulletin A320-55-1041, Revision 01, dated February 24, 2014, as the appropriate source of service information for accomplishing the required actions. This service bulletin revision contains certain actions that are specified as Required for Compliance (RC).

The FAA worked in conjunction with industry, under the Airworthiness Directive Implementation Aviation Rulemaking Committee (ARC), to enhance the AD system. One enhancement was a new process for annotating which procedures and tests in the service information are required for compliance with an AD. Differentiating these procedures and tests from other tasks in the service information is expected to improve an owner's/operator's understanding of crucial AD requirements and help provide consistent judgment in AD compliance. The procedures and tests identified as RC in any service information have a direct effect on detecting, preventing, resolving, or eliminating an identified unsafe condition.

As specified in a NOTE under the Accomplishment Instructions of the specified service information, procedures and tests that are identified as RC in any service information must be done to comply with the AD. However, procedures and tests that are not identified as RC are recommended. Those procedures and tests that are not identified as RC may be deviated from using accepted methods in accordance with the operator's maintenance or inspection program without obtaining approval of an alternative method of compliance (AMOC), provided the procedures and tests identified as RC can be done and the airplane can be put back in an airworthy condition. Any substitutions or changes to procedures or tests identified as RC will require approval of an AMOC.

Conclusion

We reviewed the relevant data, considered the comments received, and determined that air safety and the public interest require adopting this AD with the changes described previously and minor editorial changes. We have determined that these minor changes:

• Are consistent with the intent that was proposed in the NPRM (79 FR 49724, August 22, 2014) for correcting the unsafe condition; and

• Do not add any additional burden upon the public than was already proposed in the NPRM (79 FR 49724, August 22, 2014).

We also determined that these changes will not increase the economic burden on any operator or increase the scope of this AD.

Related Service Information Under 1 CFR Part 51

Airbus has issued Service Bulletin A320-55-1041, Revision 01, dated February 24, 2014. The service information describes procedures for inspection of the rudders for potential damage, and repair. This service information is reasonably available because the interested parties have access to it through their normal course of business or by the means identified in the ADDRESSES section of this AD.

Costs of Compliance

We estimate that this AD affects 851 airplanes of U.S. registry.

We also estimate that it would take about 42 work-hours per product to comply with the basic requirements of this AD. The average labor rate is $85 per work-hour. Based on these figures, we estimate the cost of this AD on U.S. operators to be $3,038,070, or $3,570 per product.

We have received no definitive data that would enable us to provide cost estimates for the on-condition actions specified in this AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0574; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-22-10 Airbus: Amendment 39-18315. Docket No. FAA-2014-0574; Directorate Identifier 2013-NM-258-AD.

(a) Effective Date

This AD becomes effective December 15, 2015.

(b) Affected ADs

None.

(c) Applicability

This AD applies to the Airbus airplanes specified in paragraphs (c)(1) through (c)(4) of this AD, certificated in any category, all manufacturer serial numbers.

(1) Airbus Model A318-111, -112, -121, and -122 airplanes.

(2) Airbus Model A319-111, -112, -113, -114, -115, -131, -132, and -133 airplanes.

(3) Airbus Model A320-211, -212, -214, -231, -232, and -233 airplanes.

(4) Airbus Model A321-111, -112, -131, -211, -212, -213, -231, and -232 airplanes.

(d) Subject

Air Transport Association (ATA) of America Code 55, Stabilizers.

(e) Reason

This AD was prompted by a report of skin disbonding on a composite side shell panel of a rudder. We are issuing this AD to detect and correct skin disbonding on the rudder, which could affect the structural integrity of the rudder, possibly resulting in reduced control of the airplane.

(f) Compliance

Comply with this AD within the compliance times specified, unless already done.

(g) Inspection To Determine Repair Status

Within 24 months after the effective date of this AD: Inspect the airplane maintenance records to determine if the rudder composite side shell panel has been repaired since first installation of the rudder on an airplane.

(h) Inspection of Certain Repaired Rudders

If the finding of the inspection required by paragraph (g) of this AD reveals that a rudder repair has been done as described in Figure A-GBBAA (Sheet 01 and 02) or Figure A-GBCAA (Sheet 02) of Airbus Service Bulletin A320-55-1041, Revision 01, dated February 24, 2014: Within 24 months after the effective date of this AD, do a pulse thermography inspection on the rudder, limited to the repaired area(s), to determine type, location, and size of the repair, in accordance with the Accomplishment Instructions of Airbus Service Bulletin A320-55-1041, Revision 01, dated February 24, 2014.

(i) Inspection of Rudders With No Records or Incomplete Records

For each rudder for which maintenance records are not available or are incomplete: Do the actions required by paragraphs (i)(1) and (i)(2) of this AD.

(1) Not later than 3 months before accomplishment of the pulse thermography inspection required by paragraph (i)(2) of this AD, send the serial number of each rudder to Airbus.

(2) Within 24 months after the effective date of this AD, do a pulse thermography inspection on complete rudder side shells to identify and mark the repair location, in accordance with the Accomplishment Instructions of Airbus Service Bulletin A320-55-1041, Revision 01, dated February 24, 2014.

(j) Related Investigative Actions, Repetitive Inspections, and Corrective Actions

After accomplishing the inspections required by paragraphs (h) and (i) of this AD, as applicable: Depending on findings, do the applicable actions specified in paragraphs (j)(1) and (j)(2) of this AD, in accordance with the Accomplishment Instructions of Airbus Service Bulletin A320-55-1041, Revision 01, dated February 24, 2014, except as required by paragraph (l)(2) of this AD. Findings are specified in Airbus Service Bulletin A320-55-1041, Revision 01, dated February 24, 2014.

(1) Do all applicable related investigative actions and corrective actions at the applicable times specified in tables 3, 4A, 4B, 4C, 4D, and 5 in paragraph 1.E.(2), “Accomplishment Timescale,” of Airbus Service Bulletin A320-55-1041, Revision 01, dated February 24, 2014, except as required by paragraph (l)(1) of this AD.

(2) Do all applicable repetitive inspections of the restored and repaired areas at the applicable intervals specified in tables 3, 4A, 4B, 4C, 4D, and 5 in paragraph 1.E.(2), “Accomplishment Timescale,” of Airbus Service Bulletin A320-55-1041, Revision 01, dated February 24, 2014.

(k) Airplanes Excluded From Certain Requirements

Airplanes fitted with a rudder having a serial number which is not in the range TS-1001 to TS-1639 inclusive, or TS-2001 to TS-5890 inclusive; or is not TS-5927; are not affected by the requirements of paragraphs (h), (i), and (j) of this AD, provided it is determined that no repairs have been done as described in the structural repair manual (SRM) procedures identified in Figure A-GBBAA (Sheet 01 and 02) or Figure A-GBCAA (Sheet 02) of Airbus Service Bulletin A320-55-1041, Revision 01, dated February 24, 2014, on the composite side shell panel of that rudder since first installation on an airplane.

(l) Exceptions to Service Information

(1) Where Airbus Service Bulletin A320-55-1041, Revision 01, dated February 24, 2014, specifies a compliance time “after the original Service Bulletin issue date,” this AD requires compliance within the specified compliance time after the effective date of this AD.

(2) If any damage or fluid ingress is found during any inspection required by this AD and Airbus Service Bulletin A320-55-1041, Revision 01, dated February 24, 2014, specifies to contact Airbus: Before further flight, repair using a method approved by the Manager, International Branch, ANM-116, Transport Airplane Directorate, FAA; or the European Aviation Safety Agency (EASA); or Airbus's EASA Design Organization Approval (DOA). If approved by the DOA, the approval must include the DOA-authorized signature.

(m) Parts Installation Limitation

As of the effective date of this AD: Except for rudders that meet the requirements of paragraph (k) of this AD, do not install a rudder unless the rudder is inspected prior to installation as specified in paragraphs (h) and (i) of this AD, and all applicable corrective actions required by paragraph (j) of this AD are done.

(n) Repair Prohibition

As of the effective date of this AD, do not accomplish a composite side shell panel repair on any rudder using an SRM procedure identified in Figure A-GBBAA (Sheet 01 and 02) or Figure A-GBCAA (Sheet 02) of Airbus Service Bulletin A320-55-1041, Revision 01, dated February 24, 2014.

(o) Credit for Previous Actions

This paragraph provides credit for actions required by paragraphs (h), (i), and (j) of this AD, if those actions were performed before the effective date of this AD using Airbus Service Bulletin A320-55-1041, dated November 26, 2012, which is not incorporated by reference in this AD.

(p) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(3) “RC” Steps in Service Information: Except as required by paragraph (l)(2) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(4) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(q) Related Information

(1) Refer to Mandatory Continuing Airworthiness Information (MCAI) EASA Airworthiness Directive 2013-0302, dated December 19, 2013, for related information. This MCAI may be found in the AD docket on the Internet at http://www.regulations.gov/#!documentDetail;D=FAA-2014-0574-0007.

(2) Service information identified in this AD that is not incorporated by reference is available at the addresses specified in paragraphs (r)(3) and (r)(4) of this AD.

(r) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-55-1041, Revision 01, dated February 24, 2014.

(ii) Reserved.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on October 28, 2015.
Jeffrey E. Duven,
Manager, Transport Airplane Directorate, Aircraft Certification Service.

[FR Doc. 2015-28197 Filed 11-9-15; 8:45 am]

BILLING CODE 4910-13-P